DEPARTMENT OF HEALTH AND HUMAN SERVICES

Centers for Disease Control and Prevention

[Program Announcement 02027]

Cooperative Agreement for the American Academy of Pediatrics; Notice of Availability of Funds

A. Purpose

The Centers for Disease Control and Prevention (CDC) announces the availability of fiscal year (FY) 2002 funds for a cooperative agreement program with the American Academy of Pediatrics (AAP). This program addresses the “Healthy People 2010” focus areas of Maternal, Infant and Child Health and Disability and Secondary Conditions.

The purpose of the program is to enhance public health practices related to birth defects and developmental disabilities by (1) promoting the professional development of pediatricians; (2) providing expert guidance on special topics on pediatric research and services; and (3) disseminating to practicing pediatricians information on birth defects, developmental disabilities, and health promotion for children with disabilities.

Research involving human participants will not be supported under this cooperative agreement.

B. Eligible Applicants

Assistance will be provided only to the American Academy of Pediatrics (AAP). No other applications are solicited.

The AAP is regarded as the most influential and prestigious professional association for pediatricians in the United States, and is the only national professional association for general pediatricians in the United States. The recommendations produced by the AAP are considered among the most reliable and up-to-date information available to the pediatric community. Because of their strong reputation and large pediatric provider audience, the AAP can rapidly and efficiently disseminate information about birth defects and developmental disabilities issues to pediatricians across the country. The AAP's unparalleled ability to convey information to a large number of American pediatricians would make them an extremely useful asset in enhancing communications among practicing pediatricians. Because of their relationships with pediatricians and the mission of the organization, the AAP is a unique position to carry-out the work being proposed and is the only national organization that has the capacity and established provider network to conduct this project.

The AAP has a long-standing position as a trusted leader in the birth defects, developmental disabilities, and childhood disabilities fields.

AAP has a chapter in each state and territory that facilitates grass-roots interventions. In addition to its preeminence as a national organization of pediatricians, AAP is represented in all U.S. regions. This regional presence makes AAP the natural leader when local action is needed.

Note: Title 2 of the United States Code, section 1611 states that an organization described in section 501(c)(4) of the Internal Revenue Code that engages in lobbying activities is not eligible to receive Federal funds constituting an award, grant, or loan.

C. Availability of Funds

Approximately $200,000 is available in FY 2002 to fund this award. It is expected that the award will begin on or about June 1, 2002, and will be made for a 12-month budget period within a project period of up to five years. Funding estimates may change.

Continuation awards within an approved project period will be made on the basis of satisfactory progress as evidenced by required reports and the availability of funds.

D. Where to Obtain Additional Information

This and other CDC announcements can be found on the CDC home page Internet address— http://www.cdc.gov. Click on “Funding” then “Grants and Cooperative Agreements.”

To obtain business management technical assistance, contact: Sheryl Heard, Grants Management Specialist, Acquisition and Assistance Branch B., Procurement and Grants Office, Centers for Disease Control and Prevention, Announcement 02027, 2920 Brandywine Road, Room 3000, Atlanta, GA 30341-4146, Telephone number: 770-488-2723, E-mail: slh3@cdc.gov.

For program technical assistance, contact: Jack Stubbs, National Center on Birth Defects and Developmental Disabilities, 4770 Buford Highway, Mail Stop F-15, Atlanta, Georgia 30341, Telephone number: 770-488-7096, E-mail: jbs2@cdc.gov.

Dated: January 22, 2002.
Robert L. Williams,
Chief, Acquisition and Assistance Branch B, Procurement and Grants Office, Centers for Disease Control and Prevention (CDC).

[FR Doc. 02-1975 Filed 1-25-02; 8:45 am]

BILLING CODE 4163-18-P